DEPARTMENT OF TRANSPORTATION

Federal Aviation Administration

Guidance on Instructions for Continued Airworthiness (ICA)

AGENCY: Federal Aviation Administration (FAA), DOT.

ACTION: Request for comments on withdrawal of policy memoranda, clarification of regulatory intent, and implementation guidance.

SUMMARY: The FAA invites public comment on its intent to rescind two policy memoranda issued in 1982 and 1983 regarding ICA submittals, and to clarify that ICA are required for all design approvals applied for after January 28, 1981, per Title 14, Code of Federal Regulations (CFR), section 21.50(b). Lastly, a six-point implementation plan is included.

DATES: Comments must be received by November 19, 2001.

FOR FURTHER INFORMATION CONTACT: Ruth Harder, FAA, Aircraft Certification Service, Aircraft Engineering Division, Delegation and Airworthiness Programs Branch, AIR-140, ARB Room 304, 6500 S. MacArthur Boulevard, Oklahoma City, Oklahoma 73169; telephone: (405) 954-7073; fax: (405) 954-4104; e-mail ruth.harder@faa.gov.

SUPPLEMENTARY INFORMATION:

Comments Invited

The FAA invites interested parties to comment on this notice. Comments should identify the subject, and be submitted to the address specified under FOR FURTHER INFORMATION CONTACT. The FAA will consider all comments received by the closing date before issuing final guidance.

Background

The FAA Aircraft Certification Service (AIR) has recently had several certification projects in which the applicability of the requirement to develop Instructions for Continuing Airworthiness (ICA) was a matter of contention. The FAA staff wanted clarity as to whether 14 CFR 21.50(b) requires ICA for supplemental type certificates (STCs) for products for which the the original type certificate (TC) was applied for before January 28, 1981. The language of 14 CFR 21.50(b) is clear, stating, in relevant part:

The holder of a design approval, including either the type certificate or supplemental type certificate for an aircraft, aircraft engine, or propeller for which application was made after January 28, 1981, shall furnish at least one set of complete Instructions for Continued Airworthiness * * *

Both STCs and amended TCs (ATCs) are design approvals. Under 14 CFR 21.50(b), all STCs and ATCs for which application was filed after January 28, 1981, must provide ICA. This is regardless of the date of application for the original TC.

FAA's AIR predecessor, the Office of Airworthiness, issued memoranda dated August 3, 1982 and August 8, 1983. Both stated that:

14 CFR 21.50(b) applies only to type certification, supplemental type certification, and amended type certification projects, whose original certification basis includes a requirement for ICA as amended on September 11, 1980 (effective January 28, 1981).

The 1983 memorandum further states that a project to amend 14 CFR 21.50(b) was initiated to reflect this interpretation. An amendment was never issued. These memoranda have sometimes been relied on as a basis for not requiring ICA for some STC projects.

FAA Policy

FAA legal counsel has determined that these memoranda did not change the plain meaning of 14 CFR 21.50(b). The 1982 and 1983 memoranda are hereby rescinded. AIR's policy is to require adherence to 14 CFR 21.50(b) by submittal of ICA for all design approvals (TC, STC, and ATC) for which application is made after January 28, 1981.

In response to comments already received from Aircraft Certification Offices (ACOs) and Aircraft Evaluation Groups (AEGs), points one through six below provide interim guidance in applying this requirement. AIR-100 will work with ACOs and AEGs to provide follow-on guidance on development and submittal of ICA.

1. Effective immediately, each applicant for a TC, STC, or ATC must submit a complete set of ICA.

2. Design approvals for STCs and ATCs should not be issued until ACO and AEG personnel have accepted the ICA.

3. The FAA will not address certification projects previously approved without ICA at this time. We will not require development of ICA for those products unless ACO and AEG personnel determine that ICA are necessary to prevent or correct an unsafe condition.

4. The ICA for an STC or ATC need only address continued airworthiness with respect to the design change for which application is made, as well as parts or areas of the aircraft affected by the design change. We consider such ICA “complete” for the purposes of 14 CFR 21.50(b).

5. An applicant's submitted assessment of the need for ICA may satisfy the “complete set of ICA.” If the assessment shows that the certification project did not change any information, procedures, process, requirements, or limitations in the current ICA, or require new ICA, and the FAA concurs, no further ICA development is necessary.

a. A statement should be placed on the design approval indicating that additional ICA change is not required.

b. For an STC, that statement may be placed under the “Limitations and Conditions” section.

6. If previous ICA or maintenance documents do not exist, or were developed before January 28, 1981, the ICA submitted for a design change should follow the format and contents specified in the appropriate airworthiness standards (14 CFR parts 23-35) appendix to the extent possible. ACOs and AEGs should give consideration to any submittal of ICA containing the essential information to maintain the design change in an airworthy condition.

This guidance does not create any new requirements.

Issued in Washington, DC, on October 11, 2001.
Thomas E. McSweeny,
Associate Administrator for Regulation and Certification.

[FR Doc. 01-26461 Filed 10-18-01; 8:45 am]

BILLING CODE 4910-13-M